DEPARTMENT OF EDUCATION

[Docket ID ED-2021-IES-0154]

Request for Information on Rigorous Research on Interventions That Promote Postsecondary Success

AGENCY: Institute of Education Sciences, Department of Education.

ACTION: Request for information.

SUMMARY: The What Works Clearinghouse, a program of the U.S. Department of Education's Institute of Education Sciences, reviews existing research on education policies, programs, products, and practices to provide educators and other key stakeholders the information they need to make evidence-based decisions. Through this request for information (RFI), the What Works Clearinghouse seeks public input to help us find rigorous research on education practices designed to improve postsecondary student success.

DATES: We must receive your comments by December 8, 2021.

ADDRESSES: Submit your response to this RFI through the Federal eRulemaking Portal. We will not accept submissions by postal mail, commercial mail, hand delivery, fax, or email. To ensure that we do not receive duplicate copies, please submit your comments only once. In addition, please include the Docket ID at the top of your comments.

Federal eRulemaking Portal: Go to www.regulations.gov to submit your comments electronically. Information on using Regulations.gov, including instructions for accessing agency documents, submitting comments, and viewing the docket, is available on the site under the “FAQ” tab.

Privacy Note: The Department's policy for comments received from members of the public is to make these submissions available for public viewing in their entirety on the Federal eRulemaking Portal at www.regulations.gov. Therefore, commenters should be careful to include in their comments only information that they wish to make publicly available. We encourage, but do not require, that each respondent include his or her name, title, institution or affiliation, and the name, title, mailing and email addresses, and telephone number of a contact person for his or her institution or affiliation, if any.

FOR FURTHER INFORMATION CONTACT: Matthew Soldner, Commissioner, National Center for Education Evaluation and Regional Assistance & Evaluation Officer, Institute of Education Sciences, U.S Department of Education, 400 Maryland Avenue SW, Room 4160, Potomac Center Plaza, Washington, DC 20202-7240. Telephone: (202) 245-8385. Email: Matthew.Soldner@ed.gov.

If you use a telecommunications device for the deaf (TDD) or a text telephone (TTY), call the Federal Relay Service (FRS), toll-free, at 1-800-877-8339.

SUPPLEMENTARY INFORMATION:

Background

A sizable number of students who enter postsecondary education with the intention of earning a certificate or degree never achieve that goal. One out of every five (18.5 percent) first-time postsecondary students who entered college in 2011-12 with the goal of completing a bachelor's degree had not earned a credential of any type (completion) and was no longer enrolled (persistence) by spring 2017. Among students who entered college in 2011-12 and had intended to earn an associate degree, the combined persistence and completion rate was even lower: nearly half (45.7 percent) were no longer enrolled and had no education credential to show for their time, effort, and expense.¹

¹ See Table 1.1-C in Web Tables—A 2017 Follow-up: Six-Year Persistence and Attainment at Any Institution for 2011-12 First-Time Postsecondary Students (NCES 2020-238). https://nces.ed.gov/pubsearch/pubsinfo.asp?pubid=2020238.

There is unlikely to be a “one size fits all” solution to significantly improving postsecondary completion outcomes among the Nation's learners, given their diversity and the diversity of institutions they attend. Instead, a variety of policies, programs, products, and practices will be needed. What should be common across all, however, is that they should be evidence-based.

The What Works Clearinghouse (WWC), a program of the U.S. Department of Education's Institute of Education Sciences, reviews existing education research to provide educators and other key stakeholders information they can use to make evidence-based decisions. Specifically, the WWC reviews causal impact studies; that is, research evaluating the efficacy of interventions—policies, programs, products, or practices—on outcomes of interest.

Since 2012, the WWC has sought to increase the number of causal impact studies it has reviewed that are relevant to postsecondary educators, policymakers, and administrators. To date, this includes more than 930 individual studies.² In that same time, the WWC has tripled the number of systematic reviews it conducts of specific branded and non-branded interventions (Intervention Reports) ³ and expanded its portfolio of postsecondary-focused Practice Guides,⁴ publications that present specific, evidence-based recommendations for educators to improve their practice.

² See https://go.usa.gov/xMsKy to see individual studies reviewed by the WWC in the postsecondary topic area.

³ See https://go.usa.gov/xMsKM to see WWC Intervention Reports in the postsecondary topic area.

⁴ See https://go.usa.gov/xMsKz to see WWC Practice Guides in the postsecondary topic area.

Despite the growth in its postsecondary-focused resources, the Department believes there may be existing causal impact research specifically relevant to improving postsecondary completion outcomes among the Nation's learners that the WWC has not yet reviewed. As such, we seek public comment to assist us in identifying relevant research. We are particularly interested in research that focuses on policies, programs, products, and practices that improve postsecondary success and can be implemented by postsecondary systems and/or institutions, working either in their own settings or in other settings (e.g., high schools) in partnership with other education stakeholders (e.g., local or State educational agencies).

This is a request for information only. This RFI is not a request for proposals (RFP) or a promise to issue an RFP or a notice inviting applications. This RFI does not commit the Department to contract for any supply or service whatsoever. Further, we are not seeking proposals and will not accept unsolicited proposals. The Department will not pay for any information or administrative costs that you may incur in responding to this RFI. The documents and information submitted in response to this RFI will not be returned.

We will review every comment, and, as described above, electronic comments in response to this RFI will be publicly available on the Federal eRulemaking Portal at www.regulations.gov. Please note that IES will not directly respond to comments.

Solicitation of Comments

We invite stakeholders who are aware of publicly available causal impact research that is specifically relevant to improving postsecondary completion outcomes among the Nation's learners but that the WWC has not yet reviewed to share the following in their comments:

(1) The work's author, title, year of publication, and publisher; and

(2) If available, the work's Digital Object Identifier (DOI), ERIC number, or a URL where the WWC can find a publicly available copy of the work (e.g., a university website).

Commenters should not include manuscripts in their submissions that are not publicly available.

The Institute is committed to improving the public's access to, and the discoverability of, education research. In service of that goal, we invite authors, those who hold copyright, or their authorized representatives to consider depositing eligible content into ERIC, the Institute of Education Sciences' bibliographic and full-text database of education research (https://eric.ed.gov/). More information about submitting content to ERIC, including our selection policy and how to access the online submission portal, can be found at https://eric.ed.gov/submit/.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Matthew Soldner,
Commissioner, National Center for Education Evaluation and Regional Assistance & Agency Evaluation Officer.

[FR Doc. 2021-24382 Filed 11-5-21; 8:45 am]

BILLING CODE 4000-01-P